DEPARTMENT OF THE INTERIOR

National Park Service

Notice of Availability of the Final Rural Landscape Management Program Environmental Impact Statement for Cuyahoga Valley National Park, Ohio

AGENCY: National Park Service, Interior.

ACTION: Notice.

SUMMARY: Pursuant to section 102(2) of the National Environmental Policy Act of 1969, the National Park Service (NPS) announces the availability of the final rural landscape management program environmental impact statement (EIS) for Cuyahoga Valley National Park, Ohio (Park). This notice is being furnished as required by National Environmental Policy Act Regulations 40 CFR 1501.7.

DATES: The required no-action period on this final EIS will expire 30 days after the Environmental Protection Agency has published a notice of availability of the final EIS in the Federal Register.

ADDRESSES: Copies of the final EIS are available by request by writing to: Superintendent, Cuyahoga Valley National Park, 15610 Vaughn Road, Brecksville, OH 44141; by phone 440-546-5903; or by e-mail cuva_superintendent@nps.gov. A downloadable online version of the document is available at: http://www.nps.gov/cuva/management/rmprojects/ruraleis/.

FOR FURTHER INFORMATION CONTACT: Superintendent, Cuyahoga Valley National Park, 15610 Vaughn Road, Brecksville, OH 44141, or by phone 440-546-5903.

SUPPLEMENTARY INFORMATION: The preservation of the rural landscape is central to the Park's legislative mandate. The law that established the Park mandates the “preservation of the historic, scenic, natural, and recreational values of the Cuyahoga Valley” (Pub. L. 93-555, 1974). One component of the historic and scenic values of the Park is the rural landscape—lands and structures modified by humans for agricultural use. Throughout the Park's history, efforts to preserve the rural landscape have been sporadic; there has never been a comprehensive program to manage the rural landscape. As a result, many of the Park's rural landscape resources have been lost. Therefore, the Park is proposing to better protect and revitalize this cultural resource by implementing an integrated rural landscape management program, with the goal of more effectively and systematically preserving and protecting the rural landscape resources in the Park. The final EIS describes and analyzes the environmental impacts of several alternative actions. In the Park's preferred alternative (alternative 2—Countryside Initiative), the rural landscape would be managed largely by issuing long-term leases to private individuals for the purpose of conducting sustainable agricultural activities. The final EIS evaluates two additional action alternatives and a no action alternative.

The Draft EIS was released to the public on February 14. Public meetings were held on March 19, from 12-2 p.m. and March 20, from 6-8 p.m. to solicit further comments. The public comment period ended April 15, though comments received through April 29, were considered.

The NPS received 77 formal written comments during the comment period in addition to verbal comments made at public meetings. All written comments are reprinted in full in the final EIS, as are a summary of verbal comments from the meetings. The NPS responses to substantive comments are also provided. The final EIS includes corrections and additions based on the substantive comments received. Additional revisions to correct errata and improve consistency but not affecting the analysis are also included in the final EIS.

The responsible official is Mr. Ernest Quintana, Midwest Regional Director, National Park Service.

Dated: September 15, 2003.
David N. Given,
Acting Regional Director, Midwest Region.

[FR Doc. 03-31932 Filed 12-29-03; 8:45 am]

BILLING CODE 4310-DE-P